DEPARTMENT OF THE INTERIOR

National Park Service

[NPS-WASO-NAGPRA-NPS0028958; PPWOCRADN0-PCU00RP14.R50000]

Notice of Inventory Completion: Carnegie Museum of Natural History, Pittsburgh, PA

AGENCY: National Park Service, Interior.

ACTION: Notice.

SUMMARY: The Carnegie Museum of Natural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organizations not identified in this notice that wish to request transfer of control of these remains and associated funerary objects should submit a written request to the Carnegie Museum of Natural History. If no additional requestors come forward, transfer of control of human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Carnegie Museum of Natural History at the address in this notice by November 12, 2019.

ADDRESSES: Amy Covell-Murthy, Carnegie Museum of Natural History, 5800 Baum Boulevard, Pittsburgh, PA 15206, telephone (412) 665-2606, email CovellA@CarnegieMNH.org.

SUPPLEMENTARY INFORMATION: Notice is here given in accordance with the Native American Graves Protection and Repatriation Act (NAGPRA), 25 U.S.C. 3003, of the completion of an inventory of human remains and associated funerary objects under the control of the Carnegie Museum of Natural History, Pittsburgh, PA. The human remains and associated funerary objects were removed from McKees Rocks Mound (36AL0006), Allegheny County, PA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Carnegie Museum of Natural History's professional staff in consultation with representatives of the Seneca Nation of Indians (previously listed as the Seneca Nation of New York).

History and Description of the Remains

In 1896, human remains representing, at minimum, 41 individuals were removed from McKees Rocks Mound in Allegheny County, PA. This initial excavation of the site was conducted by Frank H. Gerrodette, Director of Carnegie Museum, and Western Pennsylvania Historical Society member Thomas Harper. The mound, identified as comprising three distinct layers, included, at minimum, 33 distinct burials, midden by-products (lithic, pottery, and faunal materials), and approximately three hearth features. All the human remains and artifacts have remained in the possession of the Carnegie Museum of Natural History Anthropology Collection since their removal from the mound. No known individuals were identified. The sex and age of all the individuals has not been definitively determined (male and female human remains are present). At least one infant is among the human remains. Incomplete skeletal remains including burnt and unburnt bones, and cremated remains. The 914 associated funerary objects are 191 pottery sherds, 205 lithic artifacts, 39 animal bones and animal bone tools, 412 beads, 55 unworked shells, one copper bear claw, and 11 charred plant remains.

The mound is estimated to have been occupied by four distinct groups, first in the Early Woodland period, and again in the Middle and Late Woodlands. Some evidence of occupation by a panhandle archaic group prior to the mound's construction exists. The mound's initial construction was most likely carried out by a Late Adena group. Later it was utilized by groups related to the New York Hopewell and the Monongahela. Based on the historic occupation of Western Pennsylvania by the Seneca and recent stable isotope analysis work of bioarcheologists at California University of Pennsylvania, the human remains and associated funerary objects in this notice are Seneca.

Determinations Made by the Carnegie Museum of Natural History

Officials of the Carnegie Museum of Natural History have determined that:

• Pursuant to 25 U.S.C. 3001(9), the human remains described in this notice represent the physical remains of 41 individuals of Native American ancestry.

• Pursuant to 25 U.S.C. 3001(3)(A), the 914 objects described in this notice are reasonably believed to have been placed with or near individual human remains at the time of death or later as part of the death rite or ceremony.

• Pursuant to 25 U.S.C. 3001(2), there is a relationship of shared group identity that can be reasonably traced between the Native American human remains and associated funerary objects and the Seneca Nation of Indians (previously listed as the Seneca Nation of New York).

Additional Requestors and Disposition

Lineal descendants or representatives of any Indian Tribe or Native Hawaiian organization not identified in this notice that wish to request transfer of control of these human remains and associated funerary objects should submit a written request with information in support of the request to Amy Covell, Carnegie Museum of Natural History, 5800 Baum Boulevard, Pittsburgh, PA 15206, telephone (412) 665-2606, email CovellA@CarnegieMNH.org, by November 12, 2019. After that date, if no additional requestors have come forward, transfer of control of the human remains and associated funerary objects to the Seneca Nation of Indians (previously listed as the Seneca Nation of New York) may proceed.

The Carnegie Museum of Natural History is responsible for notifying the Seneca Nation of Indians (previously listed as the Seneca Nation of New York) that this notice has been published.

Dated: September 20, 2019.
Melanie O'Brien,
Manager, National NAGPRA Program.

[FR Doc. 2019-22168 Filed 10-9-19; 8:45 am]

BILLING CODE 4312-52-P